DEPARTMENT OF THE INTERIOR

Bureau of Land Management

[WO-250-1231-EB-24 1A]

Submission to Office of Management and Budget—Information Collection, OMB Control Number 1004-0119

AGENCY: Bureau of Land Management, Interior.

ACTION: Notice and request for comments.

SUMMARY: In accordance with the Paperwork Reduction Act of 1995, the Bureau of Land Management (BLM) has submitted a request for an extension of an approved information collection to the Office of Management and Budget (OMB) for approval.

DATES: The OMB is required to respond to this request within 60 days but may respond after 30 days. Submit your comments to OMB at the address below by July 16, 2007 to receive maximum consideration.

ADDRESSES: Send comments to the OMB, Interior Department Desk Officer (1004-0119), at OMB-OIRA via e-mail OIRA_DOCKET@omb.eop.gov or via facsimile at (202) 395-6566. Also please send a copy of your comments to BLM via Internet and include your name, address, and ATTN: 1004-0119 in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Shirlean Beshir to obtain copies and explanatory material on this information collection at (202) 452-5033. Persons who use a telecommunication device for the deaf (TDD) may call the Federal Information Relay Service (FIRS) on 1-800-877-8330, 24 hours a day, seven days a week, to contact Ms. Beshir.

SUPPLEMENTARY INFORMATION: On June 21, 2006, the BLM published a notice in the Federal Register (71 FR 35696) requesting comments on the information collection. The comment period closed on August 21, 2006. The BLM did not receive any comments.

We are soliciting comments on the following:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Permits for Recreation on Public Lands (43 CFR part 2930).

OMB Control Number: 1004-0119.

Abstract: The BLM manages the recreation use program on public lands according to the regulations at (43 CFR part 2930). These regulations implement the following statutes:

(1) The Land and Water Conservation Fund Act, as amended (16 U.S.C. 460l-6a, (b), (g));

(2) The Federal Land Policy and Management Act of 1976 (43 U.S.C. 1701(a)(8)), (43 U.S.C. 302(b)), and (43 U.S.C. 303);

(3) The Sentencing Reform Act (18 U.S.C. 3571); and

(4) 36 CFR part 71.

The BLM uses this information to approve and collect fees for recreation use on public lands.

Burden Estimate per Form: We estimate the completion time for this form and non-form information that is submitted on occasion to the BLM by individuals and the private sector as follows:

Burden hours information collected | Number of actions per year | Burden hours per action | Total annual burden hours
(a) Special Recreation Application and Permit (Form 2930-1) and non-form information in 43 CFR subpart 2932 | 1,450 | 8 | 11,600
(b) 43 CFR subpart 2933; Non-form information to reserve a fee-use campground site, to collect recreation use fees, and obtain a recreation use permit | 364,395 | 1 | 364,395
Totals | 365,845 |  | 375,995

Annual Responses: 365,845.

Application Fee per Response: 0.

Annual Burden Hours: 375,995.

Dated: June 8, 2007.
Ted R. Hudson,
Bureau of Land Management, Acting Division Chief Regulatory Affairs.

[FR Doc. 07-2934 Filed 6-13-07; 8:45 am]

BILLING CODE 4310-84-M